ENVIRONMENTAL PROTECTION AGENCY

[ER-FRL-8585-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated April 6, 2008 (73 FR 19833).

Draft EISs

EIS No. 20080215, ERP No. D-SFW-L64054-AK, Kenai National Wildlife Refuge Draft Revised Comprehensive Conservation Plan, Implementation, AK.

Summary: While EPA expressed a lack of objections, EPA recommended that there be a commitment to prepare a future Transportation Plan, an Oil and Gas Decommissioning Plan, and a Tribal Consultation Plan. Rating LO.

EIS No. 20080238, ERP No. D-AFS-J65520-WY, Off-Highway Vehicle (OHV) Route Designation Project, Proposing to Improve Management of Public Summer Motorized Use (May 1-November 30) by Designating Roads and Motorized Trails, Bridger-Teton National Forest, Buffalo, Jackson and Big Piney Ranger Districts, Teton, Lincoln and Sublette Counties, WY.

Summary: EPA expressed concern about water quality, soil and wildlife impacts. Rating EC2.

EIS No. 20080262, ERP No. D-SFW-K64027-NV, Desert National Wildlife Refuge Complex, Ash Meadows, Desert, Moapa Valley and Pahranagat National Wildlife Refuges, Comprehensive Conservation Plan, Clark, Lincoln and Nye counties, NV.

Summary: EPA has a lack of objections to the proposed project and supports the restoration efforts included in the preferred alternatives. Rating LO.

EIS No. 20080276, ERP No. D-FTA-J53009-CO, Gold Line Corridor Project, To Implement Fixed-Guideway Transit Service within the Golden Line Study area between Denver Union Station (DUS) and Ward Road in Wheat Ridge, Denver, Arvada, Wheat Ridge, Adam and Jefferson Counties, CO.

Summary: EPA expressed concern about water quality, flooding and erosion impacts from increased impervious surfaces. Rating EC1.

Final EISs

EIS No. 20080271, ERP No. F-BLM-J65493-UT, Kanab Field Office Resource Management Plan, Implementation, Portions of Kane and Garfield Counties, UT.

Summary: EPA continues to have concerns about impacts to water quality, air quality, aquatic resources, wildlife habitats, and recreational resources.

EIS No. 20080286, ERP No. F-AFS-J65499-UT, Pockets Resource Management Project, Proposes to Salvage Dead and Dying Spruce/Fir, Regenerate Aspen, and Manage Travel, Escalate Ranger District, Dixie National Forest, Garfield County, UT.

Summary: The FEIS adequately addressed EPA's concerns regarding potential water quality impacts from the project to Antimony Creek, the only perennial stream within the project area.

EIS No. 20080289, ERP No. F-FTA-G59004-TX, Northwest Corridor Light Rail Transit Line (LRT) to Irving /Dallas/Fort Worth International Airport, Construction, Dallas County, TX.

Summary: No formal comment letter was sent to the preparing agency.

EIS No. 20080301, ERP No. F-BLM-J65494-UT, Richfield Field Office Resource Management Plan, Implementation, Future Management of the Public Lands and Resource, Glen Canyon National Recreation Area, Capitol Reef and Canyonlands National Parks, Sanpete, Sevier, Piute, Wayne and Garfield Counties, UT.

Summary: EPA continues to have concerns with potential impacts to air quality, riparian and wetlands resources, and water quality.

EIS No. 20080306, ERP No. F-AFS-H65037-00, Nebraska and South Dakota Black-Tailed Prairie Dog Management, To Manage Prairie Dog Colonies in an Adaptive Fashion, Nebraska National Forest and Associated Units, Including Land and Resource Management Plan Amendment 3, Dawes, Sioux, Blaines Counties, NE and Custer, Fall River, Jackson, Pennington, Jones, Lyman, Stanley Counties, SD.

Summary: No formal comment letter was sent to the preparing agency.

Dated: September 16, 2008.
Ken Mittelholtz,
Environmental Protection Specialist, Office of Federal Activities.

[FR Doc. E8-21957 Filed 9-18-08; 8:45 am]

BILLING CODE 6560-50-P